DEPARTMENT OF TRANSPORTATION

Federal Aviation Administration

14 CFR Part 39

[Docket No. FAA-2013-0864; Directorate Identifier 2013-NM-108-AD; Amendment 39-17841; AD 2014-09-06]

RIN 2120-AA64

Airworthiness Directives; The Boeing Company Airplanes

AGENCY: Federal Aviation Administration (FAA), DOT.

ACTION: Final rule.

SUMMARY: We are adopting a new airworthiness directive (AD) for certain The Boeing Company Model 777F series airplanes. This AD was prompted by a report of a fire that originated near the first officer's seat and caused extensive damage to the flight deck. This AD requires replacing the low-pressure oxygen hoses with non-conductive low-pressure oxygen hoses in the stowage box and supernumerary ceiling area. We are issuing this AD to prevent electrical current from passing through an internal, anti-collapse spring of the low-pressure oxygen hose, which can cause the low-pressure oxygen hose to melt or burn and lead to an oxygen-fed fire near the flight deck.

DATES: This AD is effective June 5, 2014.

The Director of the Federal Register approved the incorporation by reference of a certain publication listed in this AD as of June 5, 2014.

ADDRESSES: For service information identified in this AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2013-0864; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Susan L. Monroe, Aerospace Engineer, Cabin Safety and Environmental Systems Branch, ANM-150S, FAA, Seattle Aircraft Certification Office (ACO), 1601 Lind Avenue SW., Renton, WA 98057-3356; phone: 425-917-6457; fax: 425-917-6590; email: susan.l.monroe@faa.gov.

SUPPLEMENTARY INFORMATION:

Discussion

We issued a notice of proposed rulemaking (NPRM) to amend 14 CFR part 39 by adding an AD that would apply to certain The Boeing Company Model 777F series airplanes. The NPRM published in the Federal Register on October 23, 2013 (78 FR 63130). The NPRM proposed to require replacing the low-pressure oxygen hoses with non-conductive low-pressure oxygen hoses in the stowage box and supernumerary ceiling area in order to prevent electrical current from passing through an internal, anti-collapse spring of the low-pressure oxygen hose, which can cause the low-pressure oxygen hose to melt or burn and lead to an oxygen-fed fire near the flight deck.

Comments

We gave the public the opportunity to participate in developing this AD. The following presents the comments received on the proposal (78 FR 63130, October 23, 2013) and the FAA's response to each comment.

Support for the NPRM (78 FR 63130, October 23, 2013)

The National Transportation Safety Board, The Air Line Pilots Association International (ALPA), and Alex Naife expressed support for the NPRM (78 FR 63130, October 23, 2013).

Request To Shorten Compliance Time

ALPA recommended that we reduce the 36-month compliance time to replace the low-pressure oxygen hoses to 12 months because of the impact that an oxygen-fed fire on the flight deck would have on flight safety.

We do not agree with the commenter's request to reduce the compliance time. In developing an appropriate compliance time, we considered the safety implications, parts availability, and normal maintenance schedules for timely accomplishment of replacing the low-pressure oxygen hoses with non-conductive low-pressure oxygen hoses. In consideration of all of these factors, we determined that the compliance time, as proposed, represents an appropriate interval in which the low-pressure oxygen hoses can be replaced in a timely manner within the fleet, while still maintaining an adequate level of safety.

Also, reducing the compliance time of the NPRM (78 FR 63130, October 23, 2013) would necessitate (under the provisions of the Administrative Procedure Act) reissuing the notice, reopening the period for public comment, considering additional comments subsequently received, and eventually issuing a final rule. In light of this, and in consideration of the amount of time that has already elapsed since issuance of the original notice, we have determined that further delay of this final rule is not appropriate.

Operators are permitted to accomplish the requirements of an AD at a time earlier than the specified compliance time; therefore, an operator may choose to replace the low-pressure oxygen hoses before 36 months after the effective date of this final rule. If additional data are presented that would justify a shorter compliance time, we may consider further rulemaking on this issue. We have not changed this final rule in this regard.

Request for Credit for Previous Actions

FedEx requested that accomplishment of the actions described in Boeing Alert Service Bulletin 777-35A0029, dated June 6, 2012, be considered as an acceptable means of compliance with the final rule. (The NPRM (78 FR 63130, October 23, 2013) specifies using Boeing Alert Service Bulletin 777-35A0029, Revision 1, dated April 29, 2013.) FedEx commented that Boeing Alert Service Bulletin 777-35A0029, Revision 1, dated April 29, 2013, on page 12, indicates that no more work is required for airplanes on which the defective hoses were removed, as described in Boeing Alert Service Bulletin 777-35A0029, dated June 6, 2012. FedEx stated that it has already accomplished the modification on 5 of its 18 applicable airplanes, as described in Boeing Alert Service Bulletin 777-35A0029, dated June 6, 2012.

We partially agree with the commenter. We agree because the commenter indicated that the unsafe condition has already been removed on several of its airplanes. However, paragraph (i) of the NPRM (78 FR 63130, October 23, 2013), and this final rule specifies credit for replacing the defective hoses before the effective date of this final rule using Boeing Alert Service Bulletin 777-35A0029, dated June 6, 2012. Therefore, no changes are necessary to this final rule in this regard.

Change Made to This Final Rule

We have revised the unsafe condition statement in the SUMMARY, the Discussion, and paragraph (e) of this final rule to clarify that the unsafe condition is near the flight deck, rather than on the flight deck.

Conclusion

We reviewed the relevant data, considered the comments received, and determined that air safety and the public interest require adopting this AD with the change described previously and minor editorial changes. We have determined that these minor changes:

• Are consistent with the intent that was proposed in the NPRM (78 FR 63130, October 23, 2013) for correcting the unsafe condition; and

• Do not add any additional burden upon the public than was already proposed in the NPRM (78 FR 63130, October 23, 2013).

Costs of Compliance

We estimate that this AD affects 18 airplanes of U.S. registry.

We estimate the following costs to comply with this AD:

Estimated Costs
Action | Labor cost | Parts cost | Cost per product | Cost on U.S. operators
Replace oxygen hoses | 7 work-hours × $85 per hour = $595 | $1,450 | $2,045 | $36,810

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-09-06 The Boeing Company: Amendment 39-17841; Docket No. FAA-2013-0864; Directorate Identifier 2013-NM-108-AD.

(a) Effective Date

This AD is effective June 5, 2014.

(b) Affected ADs

None.

(c) Applicability

This AD applies to The Boeing Company Model 777F series airplanes, certificated in any category, as identified in Boeing Alert Service Bulletin 777-35A0029, Revision 1, dated April 29, 2013.

(d) Subject

Air Transport Association (ATA) of America Code 35, Oxygen.

(e) Unsafe Condition

This AD was prompted by a report of a fire that originated near the first officer's seat and caused extensive damage to the flight deck. We are issuing this AD to prevent electrical current from passing through an internal, anti-collapse spring of the low-pressure oxygen hose, which can cause the low-pressure oxygen hose to melt or burn and lead to an oxygen-fed fire near the flight deck.

(f) Compliance

Comply with this AD within the compliance times specified, unless already done.

(g) Oxygen Hose Replacement

Within 36 months after the effective date of this AD: Replace the low-pressure oxygen hoses in the stowage box and supernumerary ceiling area with new, non-conductive, low-pressure oxygen hoses, in accordance with the Accomplishment Instructions of Boeing Alert Service Bulletin 777-35A0029, Revision 1, dated April 29, 2013.

(h) Parts Installation Prohibition

As of the effective date of this AD, no person may install a low-pressure oxygen hose, part number (P/N) 57034-08A050140, P/N 57034-08A050215, or P/N 57034-09A050270, on any airplane.

(i) Credit for Previous Actions

This paragraph provides credit for the actions specified in paragraph (g) of this AD, if those actions were performed before the effective date of this AD using Boeing Alert Service Bulletin 777-35A0029, dated June 6, 2012, provided that the low-pressure oxygen hoses described in Boeing Alert Service Bulletin 777-35A0029, Revision 1, dated April 29, 2013, were replaced with new, non-conductive, low-pressure oxygen hoses. Boeing Alert Service Bulletin 777-35A0029, dated June 6, 2012, is not incorporated by reference in this AD.

(j) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (k) of this AD. Information may be emailed to 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes ODA that has been authorized by the Manager, Seattle ACO, to make those findings. For a repair method to be approved, the repair must meet the certification basis of the airplane, and the approval must specifically refer to this AD.

(k) Related Information

(1) For more information about this AD, contact Susan L. Monroe, Aerospace Engineer, Cabin Safety and Environmental Systems Branch, ANM-150S, FAA, Seattle Aircraft Certification Office (ACO), 1601 Lind Avenue SW., Renton, WA 98057-3356; phone: 425-917-6457; fax: 425-917-6590; email: susan.l.monroe@faa.gov.

(2) Service information identified in this AD that is not incorporated by reference may be obtained at the addresses specified in paragraphs (l)(3) and (l)(4) of this AD.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Alert Service Bulletin 777-35A0029, Revision 1, dated April 29, 2013.

(ii) Reserved.

(3) For Boeing service information identified in this AD, contact Boeing Commercial Airplanes, Attention: Data & Services Management, P.O. Box 3707, MC 2H-65, Seattle, WA 98124-2207; telephone 206-544-5000, extension 1; fax 206-766-5680; Internet https://www.myboeingfleet.com.

(4) You may view this service information at FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on April 17, 2014.
Jeffrey E. Duven,
Manager, Transport Airplane Directorate, Aircraft Certification Service.

[FR Doc. 2014-09413 Filed 4-30-14; 8:45 am]

BILLING CODE 4910-13-P